DEPARTMENT OF HOUSING AND URBAN DEVELOPMENT

[Docket No. FR-7067-N-02]

60-Day Notice of Proposed Information Collection: Comment Request; “Report Housing Discrimination” Form HUD-903.1, HUD-903.1A, HUD-903.1B, HUD-903.1C, HUD-903.1F, HUD-903.1CAM, HUD-903.1KOR, HUD-903.1RUS, HUD-903-1_Somali; OMB Control No.: 2529-0011

AGENCY: Office of the Assistant Secretary for Fair Housing and Equal Opportunity (FHEO), HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 10, 2023.

ADDRESSES: Interested persons are invited to submit comments regarding this proposal.

Written comments and recommendations for the proposed information collection can be submitted within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000 or email at PaperworkReductionActOffice@hud.gov.

FOR FURTHER INFORMATION CONTACT: Erik Heins, Director, Enforcement Support Division, FHEO Office of Enforcement, Office of Fair Housing and Equal Opportunity (FHEO), U.S. Department of Housing and Urban Development, 451 7th Street SW, Washington, DC, 20410-2000; telephone number (202) 402-5887 (this is not a toll-free number), or email at ERIK.A.HEINS@hud.gov. HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: HUD is requesting this proposed extension of approval for a currently approved information collection to the OMB for review, as required by the Paperwork Reduction Act of 1995 [44 U.S.C. chapter 35, as amended]. On June 8, 2023, OMB issued a Notice of Emergency Approval for Program-related revisions to HUD's previously approved Form HUD-903.1 Series information collection. The OMB Emergency Approval expires on December 31, 2023.

The “Report Housing Discrimination” Form (HUD-903.1) is used for the collection of pertinent information from persons or entities who wish to file housing discrimination complaints with HUD/FHEO under section 810(a) of the Fair Housing Act of 1968 (Act), as amended [42 U.S.C. 3601 et seq. and 24 CFR part 103, subparts A and B] and/or under other Federal civil rights laws administratively enforced by FHEO. Effective as of October 1, 2022, FHEO was also authorized to file and investigate complaints alleging violations of the 2022 reauthorization of the Violence Against Women Act (VAWA) [34 U.S.C. 12494(c)]. Accordingly, FHEO requested and received OMB's emergency approval to revise the previously approved “Report Housing Discrimination” Form by adding information necessary to inform the public, including potential VAWA complainants/survivors, about FHEO's new VAWA enforcement authority. On January 20, 2023, FHEO also published Notice FHEO-2023-01: “Notice to Public Regarding FHEO Enforcement Authority and Procedures: Violence Against Women Act 2022 (VAWA).” Notice FHEO-2023-01 describes FHEO's new procedures for conducting intake, filing, investigating, and resolving VAWA complaints. FHEO has also established a “Your Rights Under the Violence Against Women Act (VAWA)” web page that provides detailed guidance (including Notice FHEO-2023-01) for potential VAWA complainants/survivors, at: https://www.hud.gov/program_offices/fair_housing_equal_opp/VAWA.

HUD's Office of Fair Housing and Equal Opportunity (FHEO) staff uses the currently-approved Form HUD-903.1 Series information collection at the intake stage of case processing to verify that a person or entity has standing as an aggrieved person to file a complaint under the Act; that the respondent is covered by the requirements of the Act; that the subject dwelling and/or transaction is covered by the requirements of the Act; that the alleged discriminatory activity is prohibited under the Act (subject matter jurisdiction); and that the alleged discriminatory activity occurred within the Act's one-year statute of limitations for filing a complaint with HUD. The currently approved Form complies with the procedures described in HUD's Fair Housing Act regulation at 24 CFR part 103, subpart B, subsections 103.10, 103.15, 103.20, 103.25, 103.30, 103.35, and 103.40. The Form also provides a complete list of mailing addresses, email addresses, and fax numbers for HUD's ten (10) Regional FHEO Offices.

The currently approved Form HUD-903.1 Series will not increase the information collection burden for aggrieved persons. The Form asks an aggrieved person to provide their full name; address; phone and/or email contact information; and alternative contact information. The Form also asks the aggrieved person to answer five (5) preliminary questions that may establish HUD's authority (jurisdiction) to file and investigate a housing discrimination complaint.

The currently approved Form HUD-903.1 Series will not increase the total annual burden hours for aggrieved persons who submit the Form to HUD via the internet. Therefore, HUD does not believe that the time for completing the online version of the Form will exceed the current 45-minute time limit for internet submissions.

This Notice is soliciting comments from members of the public and affected agencies concerning the proposed extension of approval for a currently approved collection of information concerning alleged discriminatory housing practices under the Fair Housing Act [42 U.S.C. 3601 et seq.]. The Fair Housing Act prohibits discrimination in the sale, rental, occupancy, advertising, and insuring of residential dwellings; and in residential real estate-related transactions; and in the provision of brokerage services, based on race, color, religion, sex, handicap [disability], familial status, or national origin. The Fair Housing Act also makes it unlawful to coerce, intimidate, threaten, or interfere with any person who has (1) exercised their fair housing rights; or (2) aided or encouraged another person to exercise their fair housing rights.

Any person who claims to have been injured by a discriminatory housing practice, or any person who believes that they will be injured by a discriminatory housing practice that is about to occur, may file a complaint with HUD not later than one year after the alleged discriminatory housing practice(s) occurred or terminated. FHEO designed the “Report Housing Discrimination” Form HUD-903.1 Series to promote consistency in the documents that, by statute, must be provided to persons or entities against whom complaints are filed [“respondents”], and for the general public's information and convenience. Section 103.25 of HUD's Fair Housing Act regulation describes the jurisdictional information that must be included in each complaint filed with HUD. For purposes of meeting the Act's one-year time limitation for filing complaints with HUD, complaints need not be initially submitted on the Form that HUD provides. “Report Housing Discrimination” Form HUD-903.1 (English language), HUD-903.1A (Spanish language), HUD-903.1B (Chinese language), HUD-903.1C (Arabic language), HUD-903.1F (Vietnamese language), HUD-903.1CAM (Khmer/Cambodian language), HUD-903.1KOR (Korean language), HUD-903.1RUS (Russian language), and HUD-903-1_(Somali language) may be submitted to HUD in person, by mail, by fax, email, or via the internet. FHEO staff uses the information provided on the Form to verify HUD's authority to investigate the aggrieved person's allegations under the Fair Housing Act and/or under other Federal civil rights laws that FHEO administratively enforces.

A. Overview of Information Collection

Proposed Revised Title of Information Collection: Report Housing Discrimination.

OMB Control Number: 2529-0011.

Type of Request: Proposed extension of approval for a previously approved information collection.

Form Number: HUD-903.1.

Description of the need for the information and proposed use: FHEO uses the “Report Housing Discrimination” Form HUD-903.1 Series to collect pertinent information from persons wishing to file housing discrimination complaints with HUD under the Fair Housing Act. The Fair Housing Act makes it unlawful to discriminate in the sale, rental, occupancy, advertising, or insuring of residential dwellings; or to discriminate in residential real estate-related transactions; or in the provision of brokerage services, based on race, color, religion, sex, handicap [disability], familial status, or national origin. The Fair Housing Act also makes it unlawful to coerce, intimidate, threaten, or interfere with any person who has (1) exercised their fair housing rights; or (2) aided or encouraged another person to exercise their fair housing rights.

The “Report Housing Discrimination” Form HUD-903.1 Series facilitates the collection of pertinent information from persons or entities who wish to file housing discrimination complaints with HUD under section 810(a) of the Fair Housing Act of 1968 (Act), as amended [42 U.S.C. 3601 et seq. and 24 CFR part 103, subparts A and B]. Any person who claims to have been injured by a discriminatory housing practice, or any person who believes that they will be injured by a discriminatory housing practice that is about to occur, may file a complaint with HUD not later than one year after the alleged discriminatory housing practice occurs or terminates. FHEO staff uses the information to verify that the person or entity has standing as an aggrieved person to file a complaint under the Act; that the respondent is covered by the requirements of the Act; that the subject dwelling and/or transaction is covered by the requirements of the Act; that the alleged discriminatory activity is prohibited under the Act (subject matter jurisdiction); and that the alleged discriminatory activity occurred within the Act's one-year statute of limitations for filing a complaint with HUD. This information is subsequently used to notify persons or entities that have been accused of engaging in discriminatory housing practices [“respondents”], as required under 42 U.S.C. 3610(1)(B)(ii) of the Act, and under 24 CFR 103.202(a) of HUD's Fair Housing Act regulation. FHEO also uses this Form to establish HUD's authority to conduct investigations under other Federal civil rights authorities, including, but not limited to, title VI of the Civil Rights Act of 1964 [42 U.S.C. 2000d-1]; section 504 of the Rehabilitation Act of 1973 [29 U.S.C. 794]; title II of the Americans with Disabilities Act of 1990 [42 U.S.C. 12131-12134]; section 109 of title I of the Housing & Community Development Act of 1974 [42 U.S.C. 5309]; the Age Discrimination Act of 1975 [42 U.S.C. 6101-6107]; title X of the Education Amendments Act of 1972 [20 U.S.C. 1681-83, 85-88]; and under the 2022 reauthorization of the Violence Against Women Act (VAWA) [34 U.S.C. 12494(c)].

To further public education about unlawful housing discrimination, the Form also contains a non-exhaustive list of activities that are prohibited under the Fair Housing Act and under VAWA. Electronic versions of the Form are currently available on FHEO's “REPORT HOUSING DISCRIMINATION” web page in English, Spanish, Chinese, Vietnamese, Korean, Arabic, Khmer/Cambodian, Russian, and Somali language texts at: https://www.hud.gov/program_offices/fair_housing_equal_opp/online-complaint.

The Form may be submitted to HUD by mail, email, fax, electronically via the internet, or presented in person to HUD's Regional and/or Field FHEO Offices. HUD/FHEO staff uses this information collection as a source of pertinent data for the HUD Enforcement Management System [“HEMS”], HUD's electronic Fair Housing Act complaint processing database. FHEO uses the HEMS database to conduct intake/assessment of housing discrimination claims; to perfect and generate jurisdictional complaints; to develop investigative plans; to store factual evidence obtained during complaint investigations; to document conciliation efforts under section 810(b) of the Act and voluntary compliance efforts under other Federal civil rights authorities; to generate Final Investigative Reports and Determinations of Reasonable Cause and Determinations of No Reasonable Cause under sections 810(b) and 810(g) of the Act; and to generate digital case files for administrative enforcement actions.

Agency form numbers, if applicable: Form HUD-903.1 (English), Form HUD-903.1A (Spanish), Form HUD-903.1B (Chinese), Form HUD-903.1C (Arabic), Form HUD-903.1F (Vietnamese), Form HUD-903.1CAM (Khmer/Cambodian), Form HUD-903.1KOR (Korean), Form HUD-903.1RUS (Russian), and Form HUD-903-1_(Somali).

Members of affected public: Individuals or households; businesses or other for-profit, not-for-profit institutions; State, Local, or Tribal Governments.

Estimation of the total number of hours needed to prepare the information collection, including the number of respondents, frequency of response, and hours of responses: During FY 2022, HUD/FHEO staff received approximately 29,791 information submissions from persons wishing to file housing discrimination complaints with HUD. Telephone contacts accounted for 1,529 of the total FY 2022 submissions. The remaining 28,262 submissions of potential complaint information were transmitted to HUD by mail, in-person, by email, and via the internet. HUD estimates that an aggrieved person takes approximately 45 minutes to complete the HUD 903.1 Form. HUD/FHEO staff uses the information collected from the Form HUD-903.1 Series to generate a formal housing discrimination complaint in the HEMS database. This formal complaint is subsequently signed by the aggrieved person(s) under penalty of perjury and is served on the respondent(s) by personal service or by certified mail, as required under 24 CFR 103.202(a) of HUD's Fair Housing Act regulation.

Each aggrieved person will complete the HUD 903.1 Form on a one-time basis. Therefore, HUD estimated the annual burden hours for this information collection at 21,196 hours.

28,262 × 1 (frequency) × .45 minutes (.75 hours.) = 21,196 hours.

Annualized cost burden to complainants: HUD does not provide postage-paid mailers for this information collection. Accordingly, persons who choose to submit the HUD-903.1 Form to HUD by regular mail must pay the United States Postal Service's (USPS's) prevailing First-Class Postage rate. At the time of this Notice, the annualized cost burden per person, based on a one-time submission of this Form to HUD via the USPS's First-Class Postage rate is Sixty-Three Cents ($0.63) per person. Aggrieved persons may also submit the Form to HUD in person, by fax, by email, or electronically via the internet.

There are no additional annualized cost burdens to aggrieved persons or record keepers resulting from this information collection.

Status of the proposed information collection: Proposed extension of a currently approved information collection of pertinent information from aggrieved persons wishing to file housing discrimination complaints with HUD.

B. Solicitation of Public Comments

This Notice is soliciting comments from members of the public and affected parties concerning the collection of information described in Section A on the following:

(1) Whether the proposed information collection is necessary for the performance of the agency's functions;

(2) Whether the agency's estimate of burdens imposed by the information collection is accurate;

(3) Ways to enhance the quality, utility, and clarity of the information to be collected; and

(4) Ways to minimize the burdens of the information collection on aggrieved persons, including the use of appropriate automated collection techniques or other forms of information technology, e.g., permitting electronic submission of responses.

HUD encourages interested parties to submit comments in response to these questions.

C. Authority

Section 3507 of the Paperwork Reduction Act of 1995, 44 U.S.C. chapter 35, as amended.

Erik Heins,
Director, Enforcement Support Division, FHEO.

[FR Doc. 2023-16916 Filed 8-7-23; 8:45 am]

BILLING CODE 4210-67-P